DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Project: SAMHSA Tobacco Prevention, Cessation, and Behavioral Health Message Testing—NEW

The Substance Abuse and Mental Health Services Administration (SAMHSA) is conducting message testing to inform the development and implementation of a tobacco use prevention and cessation campaign aimed at youth with substance use and/or mental health conditions.

The purpose of the project is to inform messaging efforts, through focus groups with youth and in-depth interviews with health care providers, to improve tobacco use prevention and cessation efforts in populations with mental health and substance use concerns, particularly youth and vulnerable populations. The focus groups and interviews are an integral part of the process to test messages and, ultimately, develop effective campaign materials and efficient implementation plans.

SAMHSA will screen parents (because focus group participants are under the age of consent) and youth, conduct focus groups with youth with substance use and/or mental health conditions, and interview health care professionals who treat youth with these conditions. The screen will be administered by telephone to parents first and, as eligible, to youth and will take 10 minutes to complete for parents and for youth. Questions will include a mix of open-ended and closed-ended responses and are intended to gather information on previous diagnosis and symptomology of mental health conditions and availability to participate in the focus group. The focus groups with youth will be conducted in person and will take up to 90 minutes. Questions are primarily open-ended and intended to gather information on the reasons youth with substance use and/or mental health conditions use tobacco, the barriers and facilitators to tobacco use prevention and cessation, the appeal of various tobacco use prevention and cessation messages, and the best dissemination strategies and communication channels for a future campaign aimed at this specialized group. The interviews with health care professionals who treat youth with mental health and/or substance use conditions will be conducted in person, as feasible, or by telephone and will take up to 45 minutes. Questions are primarily open-ended and intended to gather information to better understand how various health care professionals screen for and address tobacco use in youth receiving care in their practice, identify messages and materials aimed at health care professionals to address tobacco use prevention and cessation in youth with substance use and/or mental health conditions, determine the most efficient communication strategies and channels to disseminate this information. All data collections are voluntary.

Below is the table of the estimated total burden hours:

Respondent | Number of respondents | Responses per respondent | Average burden hour | Total hour burden
Screener (Parent) | 576 | 1 | .15 | 86.4
Screener (Youth) | 144 | 1 | .15 | 21.6
Youth Focus Group | *108 | 1 | 1.50 | 162
Provider Interview | 42 | 1 | .75 | 31.5
Total | 762 |  |  | 301.5
*The 108 respondents identified for the youth focus groups are included in the 144 respondents for the youth screener.

Written comments and recommendations concerning the proposed information collection should be sent by October 23, 2013 to the SAMHSA Desk Officer at the Office of Information and Regulatory Affairs, Office of Management and Budget (OMB). To ensure timely receipt of comments, and to avoid potential delays in OMB's receipt and processing of mail sent through the U.S. Postal Service, commenters are encouraged to submit their comments to OMB via email to: OIRA_Submission@omb.eop.gov. Although commenters are encouraged to send their comments via email, commenters may also fax their comments to: 202-395-7285. Commenters may also mail them to: Office of Management and Budget, Office of Information and Regulatory Affairs, New Executive Office Building, Room 10102, Washington, DC 20503.

Summer King,
Statistician.

[FR Doc. 2013-23053 Filed 9-20-13; 8:45 am]

BILLING CODE 4162-20-P